DEPARTMENT OF THE INTERIOR

Bureau of Land Management

Notice of Public Comment Deadline Extension

AGENCY: Bureau of Land Management, Interior; Forest Service, Agriculture.

ACTION: Notice of public comment deadline extension.

SUMMARY: Pursuant to the National Environmental Policy Act of 1969, the Federal Land Policy Management Act of 1976 and regulatory requirements, the San Juan Public Lands Center will extend the current 90-day public comment period on the Northern San Juan Basin Coal Bed Methane Environmental Impact Statement being prepared by the Bureau of Land Management and the U.S. Forest Service.

DATES: The original deadline for public comment was September 13, 2004. The new deadline for public comments will be November 30, 2004.

SUPPLEMENTARY INFORMATION: A draft environmental impact statement has been prepared to assess a proposal by six energy companies to develop 296 new coalbed methane wells in the Northern San Juan Basin of southwestern Colorado. Copies of the Draft EIS are available at the San Juan Public Lands Center, 15 Burnett Court, Durango, 970 247-4874, and Columbine Public Lands Office, 367 Pearl Street, Bayfield, 970 884-2512. The document is also available for review at these offices and at public libraries in Durango, Bayfield and Farmington. Hard copies are available upon request, but are very costly to produce. The Draft EIS may also be viewed on the Web: www.fs.fed.us/r2/sanjuan or www.nsjb-eis.org.

Written public comments will be accepted until September 13, 2004, and can also be mailed to Northern San Juan Basin CBM EIS, USDA FS Content Analysis Team, P.O. Box 221150, Salt Lake City, UT 84122. Comments may also be e-mailed to: nbasin-cbm-eis@fs.fed.us.

FOR FURTHER INFORMATION CONTACT: Ann Bond, San Juan Public Lands Center, 15 Burnett Ct., Durango, CO 81301. Phone (970) 385-1219.

Dated: August 13, 2004.
Mark W. Stiles,
San Juan Public Lands Center Manager.

[FR Doc. 04-19059 Filed 8-19-04; 8:45 am]

BILLING CODE 4910-JB-P